SURFACE TRANSPORTATION BOARD

[Docket No. FD 36089]

Jacksonville Port Terminal Railroad—Operation Exemption—The Jacksonville Port Authority

Jacksonville Port Terminal Railroad (JXPT), a noncarrier, has filed a verified notice of exemption under 49 CFR 1150.31 to operate approximately 10.0 miles of rail line owned by the Jacksonville Port Authority (Authority) at the Talleyrand Docks and Terminal, in Jacksonville, Duval County, Fla. (the Line), pursuant to an operating agreement with the Authority. The Line runs from F&J Junction (between Norfolk Southern Railway milepost 5-C and CSX Transportation milepost 632.08) in an easterly direction to Municipal Docks Railway milepost 10.33 within the Talleyrand Marine Terminal.

This transaction is related to a concurrently filed verified notice of exemption in Watco Holdings, Inc.—Continuance in Control Exemption—Jacksonville Port Terminal Railroad, L.L.C., Docket No. FD 36090, in which Watco Holdings, Inc., seeks Board approval to continue in control of JXPT upon JXPT's becoming a Class III rail carrier.

The transaction may be consummated on or after February 23, 2017, the effective date of the exemption (30 days after the verified notice was filed).

JXPT certifies that, as a result of this transaction, its projected revenues will not result in the creation of a Class II or Class I rail carrier and will not exceed $5 million.

JXPT states that the operating agreement does not involve a provision or agreement which may limit future interchange with a third party connecting carrier.

If the verified notice contains false or misleading information, the exemption is void ab initio. Petitions to revoke the exemption under 49 U.S.C. 10502(d) may be filed at any time. The filing of a petition to revoke will not automatically stay the effectiveness of the exemption. Petitions to stay must be filed no later than February 16, 2017 (at least seven days before the exemption becomes effective).

An original and 10 copies of all pleadings, referring to Docket No. FD 36089, must be filed with the Surface Transportation Board, 395 E Street SW., Washington, DC 20423-0001. In addition, a copy must be served on Karl Morell, Karl Morell & Associates, Suite 225, 655 Fifteenth St. NW., Washington, DC 20005.

Board decisions and notices are available on our Web site at “WWW.STB.GOV.”

Decided: February 3, 2017.
By the Board, Scott M. Zimmerman, Acting Director, Office of Proceedings.
Brendetta S. Jones,
Clearance Clerk.

[FR Doc. 2017-02703 Filed 2-8-17; 8:45 am]

BILLING CODE 4915-01-P